DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Angelina County, Texas, and Incorporated Areas
Docket No.: FEMA-B-1050
Biloxi Creek North Tributary | Approximately 0.6 mile downstream of State Loop 287 | +306 | City of Lufkin.
| Just upstream of Loop 287 | +329
Cedar Creek | Just downstream of Lotus Lane | +278 | City of Lufkin.
| Just upstream of State Highway 339 | +299
Cedar Creek North Tributary | Just upstream of Lotus Lane | +280 | City of Lufkin.
| Approximately 1,070 feet upstream of Texas Southeastern Railroad | +286
Cedar Creek South Tributary | At the confluence with Cedar Creek | +253 | City of Lufkin.
| Approximately 1,300 feet upstream of Berry Road | +287
Cedar Creek Tributary 3 | At the confluence with Cedar Creek | +239 | City of Lufkin.
| Just upstream of Live Oak Lane | +266
East Fork of West Branch Mill Creek | At the confluence with Tributary to Mill Creek Tributary | +279 | City of Lufkin.
| Just downstream of U.S. Route 69 | +300
Hurricane Creek | Approximately 0.7 mile downstream of College Drive | +232 | City of Lufkin.
| Just downstream of the intersection of Conn Avenue and Chestnut Street | +280
Hurricane Creek East Tributary (E) | Approximately 0.6 mile upstream of Brentwood Drive | +269 | City of Lufkin.
| At the confluence with Hurricane Creek | +273
Hurricane Creek East Tributary (E) Tributary | At the confluence with Hurricane Creek East Tributary (E) | +250 | City of Lufkin.
| Approximately 0.5 mile upstream of Brentwood Drive | +267
Hurricane Creek East Tributary (North) | Just downstream of Jones Street | +289 | City of Lufkin.
| Just upstream of Whipporwill Street | +305
Hurricane Creek East Tributary (South) | At the confluence with Unnamed Tributary 4 to Hurricane Creek | +237 | City of Lufkin.
| Just upstream of Pine Valley Drive | +265
Hurricane Creek West Branch | At the confluence with Hurricane Creek | +250 | City of Lufkin.
| Just upstream of Park Lane | +276
Mill Creek Tributary | Approximately 1,486 feet downstream of Bonita Street | +290 | City of Lufkin.
| Approximately 230 feet upstream of Martin Luther King Drive | +304
One Eyed Creek | Just downstream of Westwood Place | +289 | City of Lufkin.
| Just downstream of Fuller Springs Drive | +309
Shirley Creek | Just upstream of Loop 287 | +262 | City of Lufkin.
| Just upstream of Trenton Road | +297
Shirley Creek Tributary 2 | Just downstream of Loop 287 | +294 | City of Lufkin.
| Just downstream of Shady Pine Road | +310
Shirley Creek Tributary 2 East Branch | At the confluence with Shirley Creek Tributary 2 | +277 | City of Lufkin.
| Approximately 600 feet upstream of Freeman Street | +296
Tributary to Mill Creek Tributary | Just downstream of the City Lake Dam | +272 | City of Lufkin.
| Just downstream of U.S. Route 69 | +305
Tributary to Paper Mill Creek Tributary | Just downstream of State Highway 103 | +272 | City of Lufkin.
| Approximately 675 feet upstream of Freeman Street | +290
Unnamed Tributary 1 to Hurricane Creek | At the confluence with Hurricane Creek | +259 | City of Lufkin.
| Just upstream of FM 58 | +293
Unnamed Tributary 2 to Hurricane Creek | At the confluence with Hurricane Creek | +247 | City of Lufkin.
| Approximately 0.4 mile upstream of Tulane Road | +273
Unnamed Tributary 3 to Hurricane Creek | At the confluence with Hurricane Creek | +236 | City of Lufkin.
| Just upstream of Loop 287 | +264
Unnamed Tributary 4 to Hurricane Creek | At the confluence with Hurricane Creek East Tributary (South) | +237 | City of Lufkin.
| Approximately 773 feet upstream of Crown Colony Drive | +272
Unnamed Tributary to Papermill Creek | At the limit of detailed study nearest to Kit McConnico Park | +244 | City of Lufkin.
| At the lower limit of detailed study (no physical reference available) | +252
| Approximately 0.6 mile downstream of Moffett Road | +252
| Approximately 0.5 mile downstream of Moffett Road | +252
| Approximately 1,800 feet downstream of Old Moffett Road | +254
| Just upstream of Loop 287 | +261
* National Geodetic Vertical Datum.
+ North American Vertical Datum.
# Depth in feet above ground.
‸ Mean Sea Level, rounded to the nearest 0.1 meter.
ADDRESSES
City of Lufkin
Maps are available for inspection at 300 East Shepherd Avenue, Lufkin, TX 75901.
Bexar County, Texas, and Incorporated Areas
Docket No.: FEMA-B-7770
Ackerman Creek | At the confluence with Rosillo Creek | +651 | City of San Antonio.
| Approximately 1,600 feet upstream of Candlemeadow Drive | +698
Balcones Creek | At the confluence with Cibolo Creek | +1,277 | City of Fair Oaks Ranch, City of San Antonio, Unincorporated Areas of Bexar County.
| At the confluence with Tributary A | +1,580
Beital Creek Tributary A | Approximately 600 feet upstream of the confluence with Beital Creek | +723 | City of San Antonio, City of Windcrest.
| Approximately 1,500 feet upstream of Jim Seal Drive | +792
Bertal Creek | Just upstream of the confluence with Salado Creek | +697 | City of San Antonio.
| Just upstream of Nacogdoches Road | +828
Caracol Creek | Approximately 600 feet upstream of the confluence with Medio Creek | +770 | City of San Antonio.
| Approximately 3,700 feet upstream of West Military Drive | +854
Catalpa Pershing Channel | Just upstream of U.S. Route 281 | +661 | City of San Antonio.
| Approximately 1,000 feet upstream of Mulberry Avenue | +672
Chimenea Creek | At the confluence with Helotes Creek | +1,086 | City of San Antonio.
| Approximately 5 miles upstream of Private Road | +1,398
Comanche Creek | Approximately 4,500 feet downstream of Mauemann Road | +525 | City of San Antonio.
| Approximately 700 feet upstream of Applewhite Road | +572
Concepcion Creek | Approximately 400 feet downstream of Probandt Street | +592 | City of San Antonio.
| Approximately 400 feet upstream of U.S. Route 90 West Access Road | +683
Culebra Creek | Approximately 1,800 feet upstream of the confluence with Leon Creek | +779 | City of San Antonio.
| Approximately 9,000 feet upstream of Galm Road | +1,003
Culebra Creek Tributary A | Just downstream of Grissom Road | +792 | City of San Antonio.
| Approximately 1,500 feet upstream of Dover Ridge | +899
Culebra Creek Tributary B | Approximately 200 feet downstream of Culebra Road | +864 | City of San Antonio.
| Approximately 600 feet upstream of Culebra Road | +868
Culebra Creek Tributary C | Approximately 4,000 feet downstream of FM 1560 North | +895 | City of Helotes, City of San Antonio.
| Approximately 500 feet upstream of Beverly Hills Road | +996
Culebra Creek Tributary C-1 | Approximately 800 feet upstream of the confluence with Culebra Creek Tributary C, at FM 1560 North | +909 | City of San Antonio.
| Approximately 1,800 feet upstream of Shaenfield Road | +923
Culebra Creek Tributary D | Approximately 2,400 feet downstream of FM 1560 North | +892 | City of San Antonio.
| Approximately 3,200 feet upstream of Gass Road | +960
Culebra Creek Tributary E | Approximately 110 feet upstream of Galm Road | +953 | City of San Antonio.
| Approximately 2,700 feet upstream of Remuda Ranch | +998
Culebra Creek Tributary F | Approximately 1,500 feet upstream of Kallison Lane | +980 | City of San Antonio.
| Approximately 6,200 feet upstream of Kallison Lane | +1,007
Elm Creek | At the confluence with Mud Creek | +790 | City of San Antonio.
| Approximately 900 feet upstream of Loop 1604 Access Road | +834
Elm Waterhole Creek | Approximately 4,300 feet downstream of Redland Road | +796 | City of San Antonio.
| Approximately 2,700 feet downstream of Judson Road | +847
Escondido Creek | Approximately 700 feet downstream of Private Road, near the confluence with Martinez Creek B | +575 | City of New Berlin, City of San Antonio.
| Approximately 1,200 feet upstream of Binz-Engleman Road | +695
Fort Sam Houston Tributary | Just upstream of Road S-33 E | +645 | City of San Antonio, City of Terrell Hills, Unincorporated Areas of Bexar County.
| Approximately 300 feet upstream of Rittiman Road | +746
French Creek | Approximately 1,250 feet downstream of Private Road, at 7581 Bandera Road | +826 | City of San Antonio.
| Approximately 150 feet upstream of FM 1560, at French Creek | +995
French Creek Tributary A | Just upstream of Hausman Road South | +923 | City of San Antonio.
| Just upstream of Loop 1604 West Access Road | +936
French Creek Tributary B | Approximately 600 feet downstream of Loop 1604 West Access Road | +929 | City of San Antonio.
| Just upstream of Loop 1604 West Access Road | +937
French Creek Tributary No. 2 | Approximately 1,180 feet downstream of Braun Hollow | +848 | City of San Antonio.
| Approximately 980 feet downstream of Braun Hollow | +849
French Creek Tributary No. 4 | Approximately 1,370 feet upstream of Guilbeau Road along French Creek | +852 | City of San Antonio.
| Approximately 970 feet upstream of Tezel Road | +908
Government Canyon Tributary E | Approximately 500 feet upstream of the confluence with Government Canyon | +1,198 | City of San Antonio.
| Approximately 900 feet upstream of the confluence with Government Canyon | +1,216
Government Canyon Creek | Approximately 950 feet upstream of the confluence with Culebra Creek | +926 | City of San Antonio.
| Approximately 1,300 feet upstream of Helotes Springs | +1,327
Government Canyon Creek Tributary B | Approximately 2,900 feet upstream of Galm Road, along Government Canyon Creek | +968 | City of San Antonio.
| Approximately 1.2 mile above Galm Road, along Government Canyon Creek | +1,000
Government Canyon Creek Tributary C | Approximately 170 feet upstream of the confluence with Government Canyon | +1,028 | City of San Antonio.
| Approximately 1,600 feet upstream of the confluence with Government Canyon | +1,055
Government Canyon Creek Tributary A | Approximately 1,050 feet upstream of Galm Road | +958 | City of San Antonio.
| Approximately 3.5 miles upstream of Galm Road | +1,132
Government Canyon Greek Tributary D | Approximately 650 feet upstream of the confluence with Government Canyon Creek | +1,176 | City of San Antonio.
| Approximately 4,100 feet upstream of the confluence with Government Canyon Creek | +1,216
Helotes Creek | Approximately 2,000 feet upstream of the confluence with Culebra Creek | +852 | City of Grey Forest, City of Helotes, City of San Antonio.
| Approximately 3,000 feet upstream of Four Rogers Road | +1,240
Helotes Creek Tributary A | Approximately 2,800 feet downstream of FM 1560 North | +970 | City of Helotes, City of San Antonio.
| Approximately 700 feet upstream of Parrigin Road | +1,039
Huebner Creek | Approximately 400 feet upstream of Ingram Road | +768 | City of Leon Valley, City of San Antonio.
| Approximately 2,500 feet downstream of De Zavala Road | +956
Huebner Creek Tributary A | Approximately 1,300 feet downstream of Eckhert Road | +843 | City of San Antonio.
| Approximately 260 feet downstream of Southwell Road | +918
Huesta Creek | Approximately 2,400 feet downstream of Old Babcock Road | +922 | City of San Antonio.
| Approximately 5,000 feet upstream of Arroyo Hondo | +1,102
Huesta Creek Tributary A | Just upstream of Hausman Road | +957 | City of San Antonio.
| Approximately 1,300 feet upstream of Old Cedar Boulevard | +989
Indian Creek | Approximately 4,000 feet downstream of Ripps Ranch Road | +572 | City of San Antonio.
| Approximately 600 feet upstream of Medina Base Road | +716
Lee Creek | Just downstream of Hilltop Drive | +1,106 | City of Grey Forest, City of San Antonio.
| Approximately 1,600 feet downstream of Babcock Road | +1,240
Leon Creek | Approximately 2,500 feet upstream of Missouri Pacific Railroad along the Medina River | +519 | City of San Antonio, Unincorporated Areas of Bexar County.
| Approximately 4,900 feet upstream of Miranda Ridge | +1,400
Leon Creek Overflow | Just upstream of Prue Road at the confluence with Leon Creek | +889 | City of San Antonio.
| Approximately 1,230 feet downstream of Hausman Road | +948
Leon Creek Tributary B | Approximately 500 feet upstream of the confluence with Leon Creek | +598 | City of San Antonio.
| Approximately 130 feet downstream of Somerset Road | +624
Leon Creek Tributary C | Approximately 750 feet upstream of the confluence with Leon Creek | +635 | City of San Antonio.
| Approximately 2,200 feet upstream of Southwest Military Drive | +653
Leon Creek Tributary D | Approximately 120 feet downstream of Kelly Drive | +667 | Unincorporated Areas of Bexar County.
| Approximately 1,600 feet downstream of Growndon Road | +675
Leon Creek Tributary E | At the confluence with Leon Creek | +672 | Unincorporated Areas of Bexar County.
| Approximately 140 feet downstream of Unnamed Street on Lackland AFB | +719
Leon Creek Tributary E1 | Approximately 210 feet upstream of the confluence with Leon Creek Tributary E | +672 | Unincorporated Areas of Bexar County.
| Approximately 100 feet upstream of Kenly Avenue | +738
Leon Creek Tributary F | At the confluence with Leon Creek | +713 | City of San Antonio.
| Just upstream of South Callaghan Road | +715
Leon Creek Tributary J | Approximately 300 feet downstream of I-10 West | +1,107 | City of San Antonio.
| Approximately 200 feet downstream of Cielo Vista Road | +1,174
Leon Creek Tributary L | Approximately 150 feet upstream of Boerne Stage Road | +1,149 | City of San Antonio.
| Approximately 1,900 feet upstream of Boerne Stage Road | +1,157
Leon Creek Tributary M | Approximately 1,300 feet downstream of Boerne Stage Road | +1,202 | City of San Antonio.
| Approximately 2.18 miles upstream of Boerne Stage Road | +1,348
Leon Creek Tributary N | Approximately 350 feet upstream of the confluence with Leon Creek at Unnamed Road | +1,277 | City of San Antonio.
| Approximately 3,700 feet upstream of Unnamed Road | +1,323
Live Oak Slough | Approximately 1,700 feet downstream of Rife Lane | +559 | City of San Antonio.
| Approximately 1,200 feet upstream of Old Pearsall Road at Loop 1604 | +617
Lorence Creek | Approximately 100 feet downstream of Entrance Avenue | +736 | City of San Antonio, Town of Hollywood Park.
| Just upstream of Sonterra Boulevard | +967
Los Reyes Creek | Approximately 2,000 feet downstream of Antonio Drive | +1,026 | City of Helotes, City of San Antonio.
| Approximately 4,200 feet upstream of State Highway 16 North | +1,299
Los Reyes Creek Tributary A | Approximately 300 feet upstream of the confluence with Los Reyes Creek | +1,175 | City of San Antonio.
| Approximately 250 feet upstream of Private Road at 18524 State Highway 16 | +1,210
Lower French Creek | Approximately 170 feet downstream of Heliport Drive | +802 | City of San Antonio.
| Approximately 100 feet downstream of Low Bid Lane | +825
Lower Mud Creek | Just downstream of Wurzbach Parkway | +732 | City of San Antonio.
| Approximately 6,000 feet upstream of westbound Loop 1604 | +893
Macaway Creek | Approximately 4,000 feet downstream of U.S. Route 87 | +509 | City of San Antonio, Unincorporated Areas of Bexar County.
| Approximately 1,450 feet downstream of LaVernia Road | +614
Martinez Creek B | At the confluence with Cibolo Creek | +527 | City of New Berlin, City of San Antonio, City of St. Hedwig.
| Approximately 1,400 feet upstream of Crestway Drive | +822
Maverick Creek | Approximately 400 feet upstream of Old Babcock Road | +926 | City of San Antonio.
| Approximately 1,400 feet upstream of Kyle Seale Parkway | +1,174
Medina River | Approximately 2,000 feet upstream of I-37 South, along the San Antonio River | +478 | City of San Antonio, Unincorporated Areas of Bexar County.
| Approximately 5,000 feet upstream of Gross Lane | +690
Medio Creek | Approximately 100 feet downstream of Campground Road | +556 | City of San Antonio, Unincorporated Areas of Bexar County.
| Approximately 8,700 feet upstream of Talley Road | +875
Meusebach Creek | Approximately 1,370 feet downstream of private road at 188 Specht Road | +1,111 | City of San Antonio, Unincorporated Areas of Bexar County.
| Approximately 1,360 feet upstream of Blanco Road | +1,140
New Braunfels Avenue, Austin Highway and Broadway Drain | At the confluence with the San Antonio River | +684 | City of Alamo Heights, City of San Antonio, City of Terrell Hills.
| Just upstream of Ridgehaven Place | +794
Nichols Creek | Just downstream of Aue Road | +1,131 | City of San Antonio.
| Approximately 1,700 feet upstream of Old Fredericksburg Access Road | +1,241
Nichols Creek Tributary 1 | Just downstream of I-10 West Access Road | +1,158 | City of San Antonio.
| Approximately 900 feet downstream of Lost Creek Way | +1,166
Olmos Creek (Lower and Upper Reaches) | At the confluence with the San Antonio River | +722 | City of Alamo Heights, City of Castle Hills, City of San Antonio, City of Shavano Park.
| Approximately 3,000 feet upstream of Lou Mell Road | +1,047
Panther Spring Creek | Just upstream of North Loop Road | +796 | City of San Antonio, Town of Hollywood Park.
| Approximately 3,000 feet upstream of Loop 1604 | +963
Pecan Creek | Approximately 550 feet upstream of the confluence with Leon Creek | +1,237 | City of San Antonio.
| Just downstream of Private Road at 26690 Toutant Beauregard Road | +1,366
Polecat Creek | Approximately 2,900 feet downstream of Cagnon Road | +618 | City of San Antonio.
| Just upstream of South Keller Road | +703
Quail Creek | Just downstream of I-410 | +709 | City of San Antonio.
| Approximately 1,300 feet upstream of Oakhaven Road | +754
Ranch Creek | Approximately 650 feet upstream of the confluence with Los Reyes Creek | +1,092 | City of San Antonio.
| Approximately 4,000 feet upstream of the confluence with Los Reyes Creek | +1,123
Rittman Creek | Just downstream of Summer Fest Drive | +689 | City of Kirby, City of San Antonio.
| Approximately 3,000 feet upstream of Rittman Road | +719
Rock Creek | At the confluence with Olmos Creek | +763 | City of San Antonio.
| Approximately 600 feet downstream of Datapoint Road | +894
Rosillo Creek | Approximately 400 feet upstream of Old Corpus Christi Road | +532 | City of Kirby, City of San Antonio.
| Approximately 550 feet upstream of Walzem Road | +756
Rundale Creek | Approximately 250 feet downstream of Private Road, at Upper Balcones Road | +1,457 | Unincorporated Areas of Bexar County.
| Approximately 4,050 feet upstream of Upper Balcones Road | +1,639
Salado Creek | At the confluence with the San Antonio River | +599 | City of San Antonio, City of Shavano Park, Unincorporated Areas of Bexar County.
| Approximately 100 feet downstream of Loop West Access Road | +948
San Antonio River | Approximately 4.5 miles downstream of Loop 1604 | +435 | City of Alamo Heights, City of San Antonio.
| Just downstream of Almos Dam | +685
Selma Creek | At the confluence with Cibolo Creek | +743 | City of San Antonio, City of Selma.
| Approximately 1,900 feet upstream of Loop 1604 | +850
Slick Ranch Creek | Approximately 1,000 feet downstream of Pinn Road | +711 | City of San Antonio.
| Approximately 1,100 feet upstream of Rogers Road | +874
Slick Ranch Creek Tributary B | Approximately 650 feet upstream of Richland Hills Road | +761 | City of San Antonio.
| Approximately 1,400 feet upstream of Potranco Road | +778
Tributary A to Panther Spring Creek | Approximately 1,200 feet downstream of Blanco Road at the confluence with Panther Spring Creek | +844 | City of San Antonio.
| Approximately 200 feet downstream of Loop 1604 West Access Road | +942
Tributary A to Salado Creek | Just downstream of Unnamed Park Road at Pecan Valley | +573 | City of San Antonio.
| Approximately 200 feet upstream of Gateway | +602
Tributary A-1 to Panther Spring Creek | Approximately 50 feet downstream of Private Road | +921 | City of San Antonio.
| Just downstream of Loop 1604 West Access Road | +962
Tributary B To Salado Creek | At the confluence with Salado Creek | +598 | City of San Antonio.
| Approximately 400 feet upstream of Amanda Street | +622
Tributary C to Salado Creek | At the confluence with Salado Creek | +621 | City of San Antonio.
| Just upstream of Seguin Street | +691
Tributary C to Selma Creek | Approximately 1,600 feet downstream of North Loop 1604 | +799 | City of Live Oak, City of San Antonio, City of Selma.
| Approximately 2,700 feet upstream of North Loop 1604 | +846
Tributary D to Salado Creek | Just upstream of Ira Lee Road | +708 | City of San Antonio.
| Approximately 900 feet upstream of the Tesoro River | +753
Tributary D to Selma Creek | Approximately 250 feet downstream of North Loop 1604 Access Road | +813 | City of San Antonio.
| Approximately 1,700 feet upstream of North Loop 1604 Access Road | +853
Tributary E To Salado Creek | Approximately 550 feet downstream of Nacogdoches Road | +727 | City of San Antonio.
| Approximately 600 feet upstream of Perrin Beitel Road | +787
Tributary E to Martinez Creek B | Approximately 400 feet downstream of NRCS Dam No. 2 | +638 | City of San Antonio.
| Approximately 1,500 feet downstream of Lucky Fields | +688
Tributary E to Salado Creek | Approximately 1,200 feet upstream of Nacogdoches Road | +724 | City of San Antonio.
| Approximately 900 feet upstream of O'Connor Road | +868
Tributary F to Martinez Creek B | Approximately 3,000 feet downstream of Walzem Road | +678 | City of San Antonio.
| Approximately 1,800 feet upstream of Elm Trail Drive | +733
Tributary G to Martinez Creek B | Approximately 750 feet upstream of the confluence with Balcones Creek at Boerne Stage Road | +1,370 | City of San Antonio.
| Approximately 2,700 feet upstream of the confluence with Balcones Creek at Boerne Stage Road | +1,391
Tuttle Road Ditch | Approximately 300 feet downstream of Harry Wurzbach Road | +684 | City of San Antonio, City of Terrell Hills, Unincorporated Areas of Bexar County.
| Approximately 500 feet upstream of Harry Wurzbach Road | +697
US 281 Tributary Salado Creek | Just downstream of Country Parkway | +784 | City of Hill Country Village, City of San Antonio.
| Just upstream of Blackhawk Trail | +881
UTSA Tributary to Leon Creek | Approximately 1,300 feet upstream of UTSA Boulevard | +956 | City of San Antonio.
| Approximately 700 feet upstream of UTSA Boulevard | +972
Unnamed Tributary 1 to Beitel Creek | At the confluence with Beitel Creek | +707 | City of San Antonio.
| Just upstream of I-35 | +752
Unnamed Tributary 1 to Elm Waterhole Creek | Just upstream of Loop 1604 East Access Road at the confluence with Elm Waterhole Creek | +833 | City of San Antonio.
| Approximately 1,000 feet downstream of Roseheart | +892
Unnamed Tributary 2 in Olmos Creek Watershed | Just downstream of Rock Creek Run | +836 | City of San Antonio.
| Approximately 800 feet upstream of Rock Creek Run | +847
Unnamed Tributary 2 to Beitel Creek | Just downstream of Old O'Connor Road | +789 | City of San Antonio.
| Just upstream of Judson Road | +848
Unnamed Tributary 3 in Olmos Creek Watershed | Just downstream of Greely Street | +722 | City of Alamo Heights.
| Approximately 250 feet downstream of Townsend Avenue | +746
Unnamed Tributary 3 to Beitel Creek | Approximately 100 feet downstream of O'Connor Road | +812 | City of San Antonio.
| Approximately 1,500 feet upstream of Dreamwood Drive | +850
Unnamed Tributary 5 in Olmos Creek Watershed | At the confluence with Olmos Creek | +960 | City of San Antonio, City of Shavano Park.
| Approximately 5,000 feet upstream of Northwest Loop 1604 | +1,041
Unnamed Tributary 5 to Caracol | Approximately 900 feet downstream of West Loop 1604 North | +828 | City of San Antonio.
| Approximately 300 feet upstream of Copperfield | +866
Unnamed Tributary 6 in Olmos Creek Watershed | At the confluence with West Fork Olmos Creek | +932 | City of San Antonio.
| Approximately 600 feet upstream of De Zavala Road | +942
Unnamed Tributary to Rundale Creek | At the confluence with Rundale Creek | +1,480 | Unincorporated Areas of Bexar County.
| Approximately 70 feet upstream of Grow Ranch | +1,548
Walzem Creek | Just upstream of Judivan Drive | +678 | City of San Antonio, City of Windcrest.
| Approximately 200 feet downstream of Crestway Drive | +841
West Fork Olmos Creek Upper | Approximately 1,300 feet upstream of the confluence with Olmos Creek | +831 | City of San Antonio.
| Approximately 4,000 feet upstream of Red Maple Wood | +970
West Salitrillo Creek | Approximately 100 feet downstream of FM 1516 | +646 | City of Converse, City of Live Oak, City of San Antonio, Unincorporated Areas of Bexar County.
| Approximately 200 feet upstream of Avery Road | +886
West Tributary to Rosillo Creek | Approximately 550 feet upstream of the confluence with Rosillo Creek | +673 | City of Kirby.
| Approximately 500 feet upstream of Old Seguin Road | +694
Westwood Village Creek | Approximately 100 feet upstream of Old U.S. Route 90 | +700 | City of San Antonio.
| Approximately 1,000 feet upstream of Pinn Road | +724
Wildcat Canyon | At the confluence with Government Canyon Creek | +1,058 | City of San Antonio.
| Approximately 300 feet upstream of the confluence with Government Canyon Creek | +1,058
Woman Hollering Creek | Approximately 850 feet downstream of New Berlin Road | +539 | City of New Berlin, City of Schertz, City of St. Hedwig, Unincorporated Areas of Bexar County.
| Approximately 1,100 feet upstream of Golf Road | +719
* National Geodetic Vertical Datum.
+ North American Vertical Datum.
# Depth in feet above ground.
‸ Mean Sea Level, rounded to the nearest 0.1 meter.
ADDRESSES
City of Alamo Heights
Maps are available for inspection at 6116 Broadway Street, San Antonio, TX 78209.
City of Castle Hills
Maps are available for inspection at 6915 West Avenue, Castle Hills, TX 78213.
City of Converse
Maps are available for inspection at 403 South Seguin, Converse, TX 78109.
City of Fair Oaks Ranch
Maps are available for inspection at 7286 Dietz Elkhorn Road, Fair Oaks Ranch, TX 78015.
City of Grey Forest
Maps are available for inspection at 18502 Scenic Loop Road, Grey Forest, TX 78023.
City of Helotes
Maps are available for inspection at 12951 Bandera Road, Helotes, TX 78023.
City of Hill Country Village
Maps are available for inspection at 116 Aspen Lane, San Antonio, TX 78232.
City of Kirby
Maps are available for inspection at 5631 Binz-Engleman Road, Kirby, TX 78219.
City of Leon Valley
Maps are available for inspection at 6400 El Verde Road, Leon Valley, TX 78238.
City of Live Oak
Maps are available for inspection at 8001 Shin Oak Drive, Live Oak, TX 78233.
City of New Berlin
Maps are available for inspection at the Maintenance Building, 415 East Donnegan Street, Seguin, TX 78155.
City of San Antonio
Maps are available for inspection at 114 West Commerce Street, 7th Floor, San Antonio, TX 78205.
City of Schertz
Maps are available for inspection at 1400 Schertz Parkway, Schertz, TX 78154.
City of Selma
Maps are available for inspection at 9375 Corporate Drive, Selma, TX 78154.
City of St. Hedwig
Maps are available for inspection at 13065 FM 1346, St. Hedwig, TX 78152.
City of Shavano Park
Maps are available for inspection at 99 Saddletree Court, Shavano Park, TX 78231.
City of Terrell Hills
Maps are available for inspection at 5100 North New Braunfels Avenue, San Antonio, TX 78209.
City of Windcrest
Maps are available for inspection at 8601 Midcrown Drive, Windcrest, TX 78239.
Town of Hollywood Park
Maps are available for inspection at 407 Rhapsody Lane, Hollywood Park, TX 78216.
Unincorporated Areas of Bexar County
Maps are available for inspection at 233 North Pecos-La Trinidad Street, Suite 420, San Antonio, TX 78207.

(Catalog of Federal Domestic Assistance No. 97.022, “Flood Insurance.”)

Edward L. Connor,
Acting Federal Insurance and Mitigation Administrator, Department of Homeland Security, Federal Emergency Management Agency.

[FR Doc. 2010-24402 Filed 9-28-10; 8:45 am]

BILLING CODE 9110-12-P